DEPARTMENT OF HEALTH AND HUMAN SERVICES

Administration for Children and Families

Submission for OMB Review; Comment Request

Title: Help America Vote Act (HAVA) Voting Access Application and Annual Report.

OMB No.: 0970-0327.

Description: This is a revision to include the application for the previously cleared Help America Vote Act (HAVA) Annual report, Payments to States and Units of Local Government, (42 U.S.C. 15421).

The Help America Vote Act (HAVA) application to States and Units of Local Government is required by Federal statute and regulation. Each State or Unit of Local Government must prepare an application to receive funds under the Help America Vote Act (HAVA), Public Law 107-252, Title II, Subtitle D, Part 2, Sections 261 to 265, Payments to States and Units of Local Government to Assure Access for Individuals with Disabilities (42 U.S.C. 15421-25). The application is provided in writing to the Administration for Children and Families, Administration on Developmental Disabilities.

An annual report is required by Federal statute (the Help America Vote Act (HAVA) of 2002, Public Law 107-252, Section 261, Payments to States and Units of Local Government, 42 U.S.C. 15421). Each State or Unit of Local Government must prepare and submit an annual report at the end of every fiscal year. The report addresses the activities conducted with the funds provided during the year. The information collected from the annual report will be aggregated into an annual profile of how States have utilized the funds and establish best practices for election officials. It will also provide an overview of the State election goals and accomplishments and permit the Administration on Developmental Disabilities to track voting progress to monitor grant activities.

Respondents: Secretaries of State, Directors, State Election Boards, State Chief Election officials.

Annual Burden Estimates
Instrument | Number of respondents | Number of responses per respondent | Average burden hours per response | Total burden hours
Help America Vote Act (HAVA) Voting Access Annual Report | 50 | 1 | 24 | 1,200
Help America Vote Act (HAVA) Voting Access Application | 55 | 1 | 50 | 2,750

Estimated Total Annual Burden Hours: 3,950

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: March 5, 2009.
Janean Chambers,
Reports Clearance Officer.

[FR Doc. E9-4992 Filed 3-9-09; 8:45 am]

BILLING CODE 4184-01-P